ENVIRONMENTAL PROTECTION AGENCY

[EPA-HQ-OAR-2006-0947; FRL-9906-29-OAR]

Proposed Information Collection Request; Comment Request; Federal Implementation Plans To Reduce Interstate Transport of Fine Particulate Matter and Ozone (Renewal)

AGENCY: Environmental Protection Agency (EPA).

ACTION: Notice.

SUMMARY: The Environmental Protection Agency (EPA) is planning to submit an information collection request (ICR), “Information Collection Request Renewal for the Federal Implementation Plans to Reduce Interstate Transport of Fine Particulate Matter and Ozone” (EPA ICR Number 2391.03, OMB Control No. 2060-0667) to the Office of Management and Budget (OMB) for review and approval in accordance with the Paperwork Reduction Act (44 U.S.C. 3501 et seq.). Before doing so, EPA is soliciting public comments on specific aspects of the proposed information collection as described below. This is a proposed extension of the Cross-State Air Pollution Rule ICR, which is currently approved through July 31, 2014. An Agency may not conduct or sponsor and a person is not required to respond to a collection of information unless it displays a currently valid OMB control number.

DATES: Comments must be submitted on or before April 7, 2014.

ADDRESSES: Submit your comments, referencing Docket ID No. EPA-HQ-OAR-2009-0491 online using www.regulations.gov (our preferred method), by email to a-and-r-docket@epamail.epa.gov, or by mail to: EPA Docket Center, Environmental Protection Agency, Mail Code 28221T, 1200 Pennsylvania Ave. NW., Washington, DC 20460.

EPA's policy is that all comments received will be included in the public docket without change including any personal information provided, unless the comment includes profanity, threats, information claimed to be Confidential Business Information (CBI) or other information whose disclosure is restricted by statute.

FOR FURTHER INFORMATION CONTACT: Karen VanSickle, Clean Air Markets Division, Office of Air and Radiation, (6204J), Environmental Protection Agency, 1200 Pennsylvania Ave. NW., Washington, DC 20460; telephone number: (202) 343-9220; fax number: (202) 343-2361; email address: vansickle.karen@epa.gov.

SUPPLEMENTARY INFORMATION: Supporting documents which explain in detail the information that the EPA will be collecting are available in the public docket for this ICR. The docket can be viewed online at www.regulations.gov or in person at the EPA Docket Center, EPA West, Room 3334, 1301 Constitution Ave. NW., Washington, DC. The telephone number for the Docket Center is 202-566-1744. For additional information about EPA's public docket, visit http://www.epa.gov/dockets.

Pursuant to section 3506(c)(2)(A) of the PRA, EPA is soliciting comments and information to enable it to: (i) Evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology, e.g., permitting electronic submission of responses. EPA will consider the comments received and amend the ICR as appropriate. The final ICR package will then be submitted to OMB for review and approval. At that time, EPA will issue another Federal Register notice to announce the submission of the ICR to OMB and the opportunity to submit additional comments to OMB.

Abstract: This is a proposed extension of an ICR that has not been implemented because the underlying rule (known as the Cross-State Air Pollution Rule or Transport Rule) was first stayed before the scheduled start of compliance and was then vacated by the U.S. Court of Appeals for the D.C. Circuit. The D.C. Circuit's decision vacating the rule is currently under review by the U.S. Supreme Court (EPA v. EME Homer City Generation, L.P., Nos. 12-1182 and 12-1183 (U.S. argued Dec. 10, 2013)). EPA is proceeding with renewal so that the ICR is in place should the Supreme Court reverse the lower court decision.

On July 6, 2011 the U.S. Environmental Protection Agency (EPA) finalized Federal Implementation Plans to Reduce Interstate Transport of Fine Particulate Matter and Ozone (Cross-State Air Pollution Rule or CSAPR). CSAPR would supersede the Clean Air Interstate Rule (CAIR), which pursuant to a 2008 D.C. Circuit decision is being implemented pending the promulgation of a replacement rule. CSAPR includes certain new reporting requirements beyond the CAIR reporting requirements, and combines these new requirements with existing requirements from the Emission Reporting Requirements for Ozone State Implementation Plan (SIP) Revisions Relating to Statewide Budgets for NOX Emissions to Reduce Regional Transport of Ozone (NOX SIP Call) and the Acid Rain Program (ARP) under Title IV of the Clean Air Act Amendments of 1990. Each of these existing requirements has an approved ICR in place. The current ICRs are: CAIR (EPA ICR Number 2152.05/OMB Control Number 2060-0570), NOX SIP Call (EPA ICR Number 1857.06/OMB Control Number 2060-0445) and ARP (EPA ICR Number 1633.16/OMB Control Number 2060-0258). This ICR and the accompanying draft supporting statement are being submitted to account for the incremental burden associated with CSAPR as it was to supersede CAIR in 2012. As such, the draft supporting statement references the burden analysis included in EPA ICR Numbers 2152.04, 1857.05, and 1633.15, and estimates the change in burden resulting from CSAPR beyond the scope of the existing ICRs for the NOX SIP Call requirements and the Acid Rain Program. The burden included in this ICR includes start-up and capital costs for units newly affected by an emissions trading program and/or whose reporting status has changed (e.g., from ozone season only to annual reporting), annualized capital costs for units previously subject to the NOX SIP Call requirements or CAIR, and the incremental operation and maintenance costs for all CSAPR-affected units. The burden and costs accounted for under the CAIR ICR (EPA ICR Number 2152.04) would no longer occur following implementation of the CSAPR ICR. Instead, all those burdens and costs would be accounted for under this ICR as part of CSAPR implementation.

In addition to the July 6, 2011 final CSAPR, on December 15, 2011 EPA finalized a supplemental rulemaking that added five additional states to the CSAPR ozone season NOX program: Iowa, Michigan, Missouri, Oklahoma, and Wisconsin. EPA has included in the CSAPR ICR the costs/burdens associated with CSAPR ozone season-affected units for these five additional states. Further, at the time when the draft supporting statement for this ICR was prepared, EPA had also proposed to add Kansas to the CSAPR ozone season program, so the costs/burdens associated with Kansas facilities, like the facilities in the other five states that were at that time merely proposed to be added to the program, were included to allow for a full accounting of the CSAPR program at maturity. See Appendix A of the draft supporting statement for a separate breakout of the cost/burdens associated with these facilities. The final supplemental rulemaking did not add Kansas to the CSAPR ozone season NOX program, and the costs/burdens associated with Kansas will therefore be removed from this ICR before finalization. In the event that Kansas should be added to the CSAPR ozone season NOX program in the future, EPA will amend this ICR accordingly.

Form Numbers: None.

Respondents/affected entities: Entities potentially affected by this action are those which are subject to the Federal Implementation Plans to Reduce Interstate Transport of Fine Particulate Matter and Ozone.

Respondent's obligation to respond: mandatory (Sections 110(a) and 301(a) of the Clean Air Act).

Estimated number of respondents: EPA estimates that there are 17,398 respondents subject to the Federal Implementation Plans to Reduce Interstate Transport of Fine Particulate Matter and Ozone that will conduct monitoring in accordance with Part 75.

Frequency of response: yearly, quarterly, occasionally.

Total estimated burden: 185,201 hours (per year). Burden is defined at 5 CFR 1320.3(b).

Total estimated cost: $26,228,962 (per year), includes $13,150,678 annualized capital or operation & maintenance costs.

Changes in Estimates: There is no increase in hours in the total estimated respondent burden compared with the ICR currently approved by OMB.

Dated: January 29, 2014.
Reid P. Harvey,
Director, Clean Air Markets Division.

[FR Doc. 2014-02606 Filed 2-5-14; 8:45 am]

BILLING CODE 6560-50-P